DEPARTMENT OF LABOR

Employment and Training Administration

[TA-W-55,879]

Sun Microsystems, Sun Storage Trays and Systems, Building 10, Newark, CA; Amended Certification Regarding Eligibility To Apply for Worker Adjustment Assistance

In accordance with Section 223 of the Trade Act of 1974 (19 U.S.C. 2273) the Department of Labor issued a Certification of Eligibility to Apply for Worker Adjustment Assistance on December 2, 2004, applicable to workers of Sun Microsystems, World Wide Operations Division, Building 10, Newark, California. The notice was published in the Federal Register on December 22, 2004 (69 FR 76785).

At the request of a company official, the Department reviewed the certification for workers of the subject firm. The workers are engaged in the production of computer data storage trays.

New information shows that the decision document issued by the Department on December 2, 2004 did not correctly identify the worker group name of the subject firm. Therefore, the Department is amending this certification to correctly identify the subject firm name to read Sun Microsystems, Sun Storage Trays and Systems, Building 10, Newark, California.

The intent of the Department's certification is to include all workers employed at Sun Microsystems, Sun Storage Trays and Systems, who were adversely affected by a shift in production to, and subsequent import from, the United Kingdom.

The amended notice applicable to TA-W-55,879 is hereby issued as follows:

All workers of Sun Microsystems, Sun Storage Trays and Systems, Building 10, Newark, California, who became totally or partially separated from employment on or after October 25, 2003, through December 2, 2006, are eligible to apply for adjustment assistance under Section 223 of the Trade Act of 1974.

Signed at Washington, DC, this 22nd day of April 2005.
Richard Church,
Certifying Officer, Division of Trade Adjustment Assistance.

[FR Doc. E5-2129 Filed 5-2-05; 8:45 am]

BILLING CODE 4510-30-P